DEPARTMENT OF ENERGY

Federal Energy Regulatory Commission

Combined Notice of Filings #1

December 21, 2007.

Take notice that the Commission received the following electric corporate filings:

Docket Numbers: EC08-24-000.

Applicants: Sempra Energy Power I; El Dorado Energy, LLC; San Diego Gas & Electric Company.

Description: Sempra Energy Power I et al. submits a joint application for approval to transfer jurisdictional facilities.

Filed Date: 12/17/2007.

Accession Number: 20071219-0301.

Comment Date: 5 p.m. Eastern Time on Monday, January 7, 2008.

Take notice that the Commission received the following exempt wholesale generator filings:

Docket Numbers: EG08-27-000.

Applicants: Rail Splitter Wind Farm, LLC.

Description: Notice of Self-Certification of Exempt Wholesale Generator Status of Rail Splitter Wind Farm, LLC.

Filed Date: 12/21/2007.

Accession Number: 20071221-5046.

Comment Date: 5 p.m. Eastern Time on Friday, January 11, 2008.

Take notice that the Commission received the following electric rate filings:

Docket Numbers: ER07-1383-001; ER07-1384-001.

Applicants: Duke Energy Shared Services, Inc.

Description: Duke Energy Shared Services, Inc submits its filing, in compliance with FERC's 11/15/07 Order.

Filed Date: 12/18/2007.

Accession Number: 20071220-0167.

Comment Date: 5 p.m. Eastern Time on Tuesday, January 8, 2008.

Docket Numbers: ER07-1406-002.

Applicants: Long Beach Peakers LLC.

Description: Long Beach Peakers, LLC submits a supplemental filing to their 9/27/07 filing of an application for market-based rate authority and requests a shortened notice and comment period of no more than 10 days.

Filed Date: 12/18/2007.

Accession Number: 20071219-0164.

Comment Date: 5 p.m. Eastern Time on Friday, December 28, 2007.

Docket Numbers: ER08-187-001.

Applicants: The United Illuminating Company.

Description: The United Illuminating Company submits substitute tariff sheet for Schedule 10 that removes the proposal for on-peak & off-peak pricing for daily firm point-to-point transmission service etc.

Filed Date: 12/21/2007.

Accession Number: 20071221-0199.

Comment Date: 5 p.m. Eastern Time on Monday, December 31, 2007.

Docket Numbers: ER08-275-001.

Applicants: Santa Maria Cogen Inc.

Description: Santa Maria Cogen, Inc submits a clean version of Substitute Original Sheet 2 of its proposed tariff et al.

Filed Date: 12/19/2007.

Accession Number: 20071220-0164.

Comment Date: 5 p.m. Eastern Time on Monday, December 31, 2007.

Docket Numbers: ER08-335-001.

Applicants: Florida Power & Light Company.

Description: Florida Power & Light Co submits Exhibit II, Lee County Electric Coop Estimated Annual Demand and Energy Billing Determinations as part of the 12/14/07 filing of Rate Schedule.

Filed Date: 12/19/2007.

Accession Number: 20071220-0165.

Comment Date: 5 p.m. Eastern Time on Wednesday, January 9, 2008.

Docket Numbers: ER08-343-000.

Applicants: Entergy Services, Inc.

Description: Entergy Operating Companies submits an executed Seventh Revised Network Integration Transmission Service Agreement with East Texas Electric Coop, Inc.

Filed Date: 12/18/2007.

Accession Number: 20071219-0165.

Comment Date: 5 p.m. Eastern Time on Tuesday, January 8, 2008.

Docket Numbers: ER08-344-000.

Applicants: Duke Energy Carolinas, LLC.

Description: Duke Energy Carolinas LLC submits revised Network Integration Service Agreement for Network Integration Transmission Service with Blue Ridge Electric Membership Corporation.

Filed Date: 12/18/2007.

Accession Number: 20071219-0159.

Comment Date: 5 p.m. Eastern Time on Tuesday, January 8, 2008.

Docket Numbers: ER08-345-000.

Applicants: Northwestern Corporation.

Description: Northwest Corp submits a supplement to Rate Schedule 188.

Filed Date: 12/17/2007.

Accession Number: 20071219-0160.

Comment Date: 5 p.m. Eastern Time on Monday, January 7, 2008.

Docket Numbers: ER08-346-000.

Applicants: Midwest Independent Transmission System Operator, Inc.

Description: Midwest Independent Transmission System Operator, Inc. submits proposed revisions to Attachment L Module A and a Table of Contents to their Open Access Transmission and Energy Markets Tariff, FERC Electric Tariff, Third Revised Volume 1.

Filed Date: 12/18/2007.

Accession Number: 20071220-0166.

Comment Date: 5 p.m. Eastern Time on Tuesday, January 8, 2008.

Take notice that the Commission received the following electric securities filings:

Docket Numbers: ES08-16-000.

Applicants: Ameren Services Company.

Description: Form 523—Application for Permission to Issue Securities of Ameren Services Company, et al.

Filed Date: 12/19/2007.

Accession Number: 20071219-5008.

Comment Date: 5 p.m. Eastern Time on Wednesday, January 9, 2008.

Docket Numbers: ES08-17-000.

Applicants: South Carolina Electric & Gas Company; South Carolina Generating Company, Inc.

Description: Application under Section 204 of South Carolina Electric & Gas Company, et al. for authority to issue short-term debt.

Filed Date: 12/19/2007.

Accession Number: 20071219-5058.

Comment Date: 5 p.m. Eastern Time on Wednesday, January 9, 2008.

Docket Numbers: ES08-18-000.

Applicants: Kingsport Power Company.

Description: Form 523—Request for Permission to Issue Securities of Kingsport Power Company.

Filed Date: 12/19/2007.

Accession Number: 20071219-5071.

Comment Date: 5 p.m. Eastern Time on Wednesday, January 9, 2008.

Take notice that the Commission received the following foreign utility company status filings:

Docket Numbers: FC08-2-000.

Applicants: Macquarie Group Limited.

Description: Foreign Utility Company Notice of Self-Certification of Macquarie Group Limited.

Filed Date: 12/19/2007.

Accession Number: 20071219-5032.

Comment Date: 5 p.m. Eastern Time on Wednesday, January 9, 2008.

Take notice that the Commission received the following public utility holding company filings:

Docket Numbers: PH08-11-000.

Applicants: The Capital Group Companies, Inc.

Description: FERC Form 65-A, Exemption Notification of Status as Passive Investors of The Capital Group Companies, Inc.

Filed Date: 12/19/2007.

Accession Number: 20071218-5078.

Comment Date: 5 p.m. Eastern Time on Wednesday, January 9, 2008.

Docket Numbers: PH08-12-000.

Applicants: ENERGYSOUTH, INC.

Description: Explanation why change in facts does not affect FERC 65-A exemption. 18 CFR 366.4(d)(1)(ii).

Filed Date: 12/18/2007.

Accession Number: 20071218-5060.

Comment Date: 5 p.m. Eastern Time on Tuesday, January 8, 2008.

Docket Numbers: PH08-13-000.

Applicants: General Electric Company; General Electric Capital Services, Inc.; Aircraft Services Corporation; East Coast Power Linden GP, LLC; East Coast Power Linden Holding, LLC; East Coast Power Linden, Inc.; East Coast Power, LLC; EFS Cogen Holdings I LLC; EFS Shady Hills LLC; EFS-SSCC Holdings LLC; Fox Energy OP, LP; GE Capital CALGEN; General Electric Credit Corporation—TN,GE Energy Holdings, Inc.; GE Structured Finance Inc.; GESF Birchwood-GP LLC; Linden VFT, LLC; LSP Shady Blocker I, Inc.; LSP Shady Blocker II, Inc.; Shady Hills Power Holdings, LLC; SourceGas Holdings LLC; SourceGas LLC; Southern Star Central Corp.

Description: Revised FERC Form 65-A, Exemption Notification of General Electric Company, et al.

Filed Date: 12/18/2007

Accession Number: 20071218-5070.

Comment Date: 5 p.m. Eastern Time on Tuesday, January 8, 2008.

Take notice that the Commission received the following electric reliability filings:

Docket Numbers: RR07-9-004; RR07-10-004.

Applicants: North American Electric Reliability Corporation

Description: Compliance Filing of North American Electric Reliability Corp.

Filed Date: 12/17/2007.

Accession Number: 20071217-5012.

Comment Date: 5 p.m. Eastern Time on Monday, January 7, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC.

There is an eSubscription link on the web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Director.

[FR Doc. E7-25516 Filed 1-2-08; 8:45 am]

BILLING CODE 6717-01-P